DEPARTMENT OF AGRICULTURE

Natural Resources Conservation Service

Cavalry Creek Watershed Site 6, Washita County, OK

AGENCY: Natural Resources Conservation Service, USDA.

ACTION: Notice of availability of record of decision.

SUMMARY: M. Darrel Dominick, responsible Federal official for projects administered under the provisions of Public Law 106-472, in the State of Oklahoma, is hereby providing notification that a record of decision to proceed with the installation of the Cavalry Creek Watershed Site 6 project is available. Single copies of this record of decision may be obtained from M. Darrel Dominick at the address shown below.

FOR FURTHER INFORMATION CONTACT: M. Darrel Dominick, State Conservationist, Natural Resources Conservation Service, State Office, 100 USDA Suite 206, Stillwater, Oklahoma 74074-2655; telephone (405) 742-1227.

Dated: April 7, 2004.
M. Darrel Dominick,
State Conservationist.

(This activity is listed in the Catalog of Federal Domestic Assistance under No. 10.904, Watershed Protection and Flood Prevention, and is subject to the provisions of Executive Order 12372, which requires intergovernmental consultation with State and local officials).

[FR Doc. 04-8329 Filed 4-12-04; 8:45 am]

BILLING CODE 3410-16-P